DEPARTMENT OF TRANSPORTATION

Federal Aviation Administration

14 CFR Part 39

[Docket No. FAA-2009-0138; Directorate Identifier 2008-NM-216-AD]

RIN 2120-AA64

Airworthiness Directives; Bombardier Model BD-700-1A10 and BD-700-1A11 Airplanes

AGENCY: Federal Aviation Administration (FAA), DOT.

ACTION: Notice of proposed rulemaking (NPRM).

SUMMARY: We propose to adopt a new Airworthiness Directive (AD) for the products listed above that would supersede an existing AD. This proposed AD results from mandatory continuing airworthiness information (MCAI) originated by an aviation authority of another country to identify and correct an unsafe condition on an aviation product. The MCAI describes the unsafe condition as:

During scheduled maintenance inspection, a bolt which connects the PCU (power control unit) to the elevator surface was found fractured in the assembly. Further inspection of the assembly revealed that the bearing on the PCU rod end had seized, which resulted in damage to the attachment fitting bushing and fracture of the bolt. Inspection of other in-service airplanes revealed two more seized PCU attachment joints. However, except seizure, no fractured bolt was found on these airplanes. Failure of the bolts in both PCUs on one side could result in disconnection of the elevator control surface which would lead to flutter and loss of the aircraft.

The proposed AD would require actions that are intended to address the unsafe condition described in the MCAI.

DATES: We must receive comments on this proposed AD by March 25, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received and other information. The street address for the Docket Operations office (telephone (800) 647-5527) is in the ADDRESSES section. Comments will be available in the AD docket shortly after receipt.

FOR FURTHER INFORMATION CONTACT: Pong K. Lee, Aerospace Engineer, Airframe and Propulsion Branch, ANE-171, FAA, New York Aircraft Certification Office, 1600 Stewart Avenue, Suite 410, Westbury, New York 11590; telephone (516) 228-7324; fax (516) 794-5531.

SUPPLEMENTARY INFORMATION:

Comments Invited

We invite you to send any written relevant data, views, or arguments about this proposed AD. Send your comments to an address listed under the ADDRESSES section. Include “Docket No. FAA-2009-0138; Directorate Identifier 2008-NM-216-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 16, 2008, we issued AD 2008-24-12, Amendment 39-15753 (73 FR 72316, November 28, 2008). That AD required actions intended to address an unsafe condition on the products listed above. AD 2008-24-12 was issued as an Immediately Adopted Rule; therefore, notice and opportunity for public comment before issuing AD 2008-24-12 were impracticable because good cause existed for making that AD effective in fewer than 30 days.

In the Differences section of AD 2008-24-12, we indicated that the planned compliance times for the inspection and lubrication of power control units specified in Paragraph B. of the mandatory continuing airworthiness information (MCAI) (i.e., Canadian Emergency Airworthiness Directive CF-2008-31, dated October 9, 2008) would allow enough time to provide notice and opportunity for prior public comment on the merits of those actions, and that we were considering further rulemaking to address that issue. We also indicated that we were considering further rulemaking to require the optional terminating action on all affected airplanes. We have now determined that further rulemaking action is indeed necessary, and this proposed AD follows from that determination.

The MCAI states:

During scheduled maintenance inspection, a bolt which connects the PCU (power control unit) to the elevator surface was found fractured in the assembly. Further inspection of the assembly revealed that the bearing on the PCU rod end had seized, which resulted in damage to the attachment fitting bushing and fracture of the bolt. Inspection of other in-service airplanes revealed two more seized PCU attachment joints. However, except seizure, no fractured bolt was found on these airplanes. Failure of the bolts in both PCUs on one side could result in disconnection of the elevator control surface which would lead to flutter and loss of the aircraft.

This Airworthiness Directive (AD) is issued to mandate the inspection and lubrication of all part number (P/N) GT411-3800-5 and GT411-3800-7 PCU attachment joints.

The required actions include inspections for damage and seizure (including signs of seizure) of the PCU attachment joints, an inspection for damage (including wear damage, fretting, corrosion, galling, scoring, fretting wear, and parts that do not meet inspection requirements) of the PCU attachment joint components, and applicable corrective actions. You may obtain further information by examining the MCAI in the AD docket.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect 157 products of U.S. registry. We also estimate that it would take 4 work-hours per product to comply with the basic requirements of this proposed AD. The average labor rate is $80 per work-hour. Based on these figures, we estimate the cost of the proposed AD on U.S. operators to be $50,240, or $320 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15753 (73 FR 72316, November 28, 2008) and adding the following new AD:

Bombardier: Docket No. FAA-2009-0138; Directorate Identifier 2008-NM-216-AD.

Comments Due Date

(a) We must receive comments by March 25, 2009.

Affected ADs

(b) The proposed AD supersedes AD 2008-24-12, Amendment 39-15753.

Applicability

(c) This AD applies to Bombardier Model BD-700-1A10 and BD-700-1A11 airplanes, certificated in any category, serial numbers (S/Ns) 9002 through 9222 inclusive; equipped with elevator power control units (PCUs) having part number (P/N) GT411-3800-5 or GT411-3800-7.

Subject

(d) Air Transport Association (ATA) of America Code 27: Flight controls.

Reason

(e) The mandatory continuing airworthiness information (MCAI) states:

During scheduled maintenance inspection, a bolt which connects the PCU (power control unit) to the elevator surface was found fractured in the assembly. Further inspection of the assembly revealed that the bearing on the PCU rod end had seized, which resulted in damage to the attachment fitting bushing and fracture of the bolt. Inspection of other in-service airplanes revealed two more seized PCU attachment joints. However, except seizure, no fractured bolt was found on these airplanes. Failure of the bolts in both PCUs on one side could result in disconnection of the elevator control surface which would lead to flutter and loss of the aircraft.

This Airworthiness Directive (AD) is issued to mandate the inspection and lubrication of all part number (P/N) GT411-3800-5 and GT411-3800-7 PCU attachment joints.

The required actions include inspections for damage and seizure (including signs of seizure) of the PCU attachment joints, an inspection for damage (including wear damage, fretting, corrosion, galling, scoring, fretting wear, and parts that do not meet inspection requirements) of the PCU attachment joint components, and applicable corrective actions.

Restatement of Requirements of AD 2008-24-12

(f) Unless already done: For airplanes on which elevator PCUs with P/N GT411-3800-5 or P/N GT411-3800-7, S/N 0615 and lower, are installed, excluding P/N GT411-3800-7 PCUs having a serial number listed in Table 1 of this AD, and excluding P/N GT411-3800-7 PCUs on which less than 1,000 flight hours have accumulated on the PCUs as of December 15, 2008 (the effective date of AD 2008-24-12), do the actions specified in paragraphs (f)(1), (f)(2), and (f)(3) of this AD.

Note 1: Units listed in Table 1 of this AD have been lubricated by the vendor and the inspections required by paragraphs (f)(1), (f)(2), (f)(3), and (f)(4) of this AD are not required for those units.

Table 1—Serial Numbers
0030 | 0097 | 0156 | 0188 | 0218 | 0369 | 0438
0031 | 0101 | 0161 | 0190 | 0222 | 0406 | 0453
0033 | 0105 | 0163 | 0191 | 0223 | 0407 | 0491
0041 | 0108 | 0164 | 0197 | 0240 | 0408 | 0495
0046 | 0109 | 0165 | 0198 | 0262 | 0413 | 0504
0060 | 0110 | 0171 | 0199 | 0265 | 0420 | 0506
0062 | 0111 | 0173 | 0202 | 0281 | 0427 | 0513
0066 | 0119 | 0174 | 0205 | 0296 | 0429 | 0533
0081 | 0130 | 0178 | 0206 | 0301 | 0430 | 0536
0083 | 0138 | 0179 | 0208 | 0310 | 0431 | 0586
0087 | 0141 | 0181 | 0210 | 0323 | 0433 |
0092 | 0145 | 0183 | 0214 | 0365 | 0435 |

(1) Within 10 flight cycles or 50 flight hours after December 15, 2008, whichever occurs first: Inspect for damage and wear and lubricate the PCU attachment joints in accordance with Bombardier Alert Service Bulletin A700-1A11-27-024, Revision 01, dated October 3, 2008; or Bombardier Alert Service Bulletin A700-27-066, Revision 01, dated October 3, 2008; as applicable.

(2) Within 90 days or 200 flight hours after performing the actions required by paragraph (f)(1) of this AD, whichever occurs first: Repeat the inspection and lubrication of the PCU attachment joints in accordance with Bombardier Alert Service Bulletin A700-1A11-27-024, Revision 01, dated October 3, 2008; or Bombardier Alert Service Bulletin A700-27-066, Revision 01, dated October 3, 2008; as applicable.

(3) Within 45 days or 100 flight hours after performing the actions required by paragraph (f)(2) of this AD, whichever occurs first: Repeat the inspection and lubrication of the PCU attachment joints in accordance with Bombardier Alert Service Bulletin A700-1A11-27-024, Revision 01, dated October 3, 2008; or Bombardier Alert Service Bulletin A700-27-066, Revision 01, dated October 3, 2008; as applicable. Repeat the inspection thereafter at intervals not to exceed 45 days or 100 flight hours, whichever occurs first, until paragraph (f)(4) of this AD is accomplished.

(4) Completion of a disassembly with an inspection for damage, applicable corrective actions, and lubrication of the PCU attachment joint components in accordance with Bombardier Service Bulletin 700-1A11-27-025, dated October 9, 2008; or Bombardier Service Bulletin 700-27-067, dated October 9, 2008; as applicable; constitutes terminating action for the inspections required by paragraphs (f)(1), (f)(2), and (f)(3) of this AD.

(5) Unless already done, if any damage or seizure is found during any inspection required by paragraphs (f)(1), (f)(2), (f)(3), and (f)(4) of this AD, before further flight, replace the affected part in accordance with Bombardier Service Bulletin 700-1A11-27-025, dated October 9, 2008, or Bombardier Service Bulletin 700-27-067, dated October 9, 2008, as applicable.

(6) Actions done before December 15, 2008, in accordance with the Bombardier Alert Service Bulletins A700-1A11-27-024 and A700-27-066, both dated October 2, 2008, are acceptable for compliance with the corresponding requirements of this AD.

(7) Unless already done, submit a report to Bombardier of all findings found during any inspection required by paragraphs (f)(1), (f)(2), (f)(3), and (f)(4) of this AD, in accordance with the applicable service bulletin listed in Table 2 of this AD.

(i) If the inspection was done on or after December 15, 2008: Submit the report within 14 days after the inspection.

(ii) If the inspection was done before December 15, 2008: Submit the report within 14 days after December 15, 2008.

Table 2—Service Bulletins for Reports
Service Bulletin | Revision level | Date
Bombardier Alert Service Bulletin A700-1A11-27-024 | 01 | October 3, 2008.
Bombardier Alert Service Bulletin A700-27-066 | 01 | October 3, 2008.
Bombardier Service Bulletin 700-1A11-27-025 | Original | October 9, 2008.
Bombardier Service Bulletin 700-27-067 | Original | October 9, 2008.

New Requirements of this AD: Actions and Compliance

(g) Unless already done, do the actions specified in paragraph (g)(1) or (g)(2) of this AD, as applicable, at the time specified.

(1) For airplanes identified in paragraph (f) of this AD: Within 45 days or 100 flight hours after the effective date of this AD, whichever occurs first, complete a disassembly with an inspection for damage, applicable corrective actions, and lubrication of the PCU attachment joint components in accordance with Bombardier Service Bulletin 700-1A11-27-025, dated October 9, 2008; or Bombardier Service Bulletin 700-27-067, dated October 9, 2008; as applicable.

(2) For airplanes not identified in paragraph (f) of this AD on which elevator PCUs with P/N GT411-3800-7 are installed: Within 180 days or 400 flight hours after the effective date of this AD, whichever occurs first, complete a disassembly with an inspection for damage, applicable corrective actions, and lubrication of the PCU attachment joint components in accordance with Bombardier Service Bulletin 700-1A11-27-025, dated October 9, 2008; or Bombardier Service Bulletin 700-27-067, dated October 9, 2008; as applicable.

FAA AD Differences

Note 2: This AD differs from the MCAI and/or service information as follows: Paragraph A.3. of the MCAI requires a one-time inspection; however, since we have changed the compliance time for the terminating action in paragraph A.4. of the MCAI (refer to paragraph (g)(1) of this AD), paragraph (f)(3) of this AD requires repeating the inspections until the terminating action is performed.

Other FAA AD Provisions

(h) The following provisions also apply to this AD:

(1) Alternative Methods of Compliance (AMOCs): The Manager, New York Aircraft Certification Office (ACO), FAA, has the authority to approve AMOCs for this AD, if requested using the procedures found in 14 CFR 39.19. Send information to ATTN: Pong K. Lee, Aerospace Engineer, Airframe and Propulsion Branch, ANE-171, FAA, New York ACO, 1600 Stewart Avenue, Suite 410, Westbury, New York 11590; telephone (516) 228-7324; fax (516) 794-5531. Before using any approved AMOC on any airplane to which the AMOC applies, notify your principal maintenance inspector (PMI) or principal avionics inspector (PAI), as appropriate, or lacking a principal inspector, your local Flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

(4) Special Flight Permits: As described in Section 21.197 and Section 21.199 of the Federal Aviation Regulations (14 CFR 21.197 and 21.199), special flight permits are not allowed.

Related Information

(i) Refer to MCAI Canadian Emergency Airworthiness Directive CF-2008-31, dated October 9, 2008, and the service information specified in Table 2 of this AD, for related information.

Issued in Renton, Washington, on January 30, 2009.
Stephen P. Boyd,
Assistant Manager, Transport Airplane Directorate, Aircraft Certification Service.

[FR Doc. E9-3774 Filed 2-20-09; 8:45 am]

BILLING CODE 4910-13-P